DEPARTMENT OF HOMELAND SECURITY

Coast Guard

33 CFR Part 165

[CGD13-05-011]

RIN 1625-AA00

Safety Zones: Annual Fireworks Events in the Captain of the Port Portland Zone

AGENCY: Coast Guard, DHS.

ACTION: Notice of enforcement.

SUMMARY: The Captain of the Port, Portland, Oregon, will enforce the safety zones established May 30, 2003, to safeguard watercraft and their occupants from safety hazards associated with the display of fireworks. Entry into these safety zones is prohibited unless authorized by the Captain of the Port Portland Zone.

DATES: Paragraphs (a)(3) through (a)(7) of 33 CFR 165.1315 will be enforced on (a)(3) July 4, 2005, (a)(4) July 3, 2005, (a)(5) July 4, 2005, (a)(6) July 4, 2005, and (a)(7) September 1, 2005, respectively.

FOR FURTHER INFORMATION CONTACT: Petty Officer Charity Keuter, c/o Captain of the Port Portland, OR 6767 North Basin Avenue Portland, OR 97217 at (503) 240-2590 to obtain information concerning enforcement of this rule.

SUPPLEMENTARY INFORMATION: On May 30, 2003 the Coast Guard published a final rule (68 FR 32366) establishing regulations in 33 CFR 165.1315 to safeguard watercraft and their occupants on the waters of the Willamette, Columbia, and Coos Rivers from safety hazards associated with the display of fireworks within the AOR of the Captain of the Port, Portland, Oregon. The Coast Guard is issuing notice that the Captain of the Port, Portland, Oregon will enforce the established safety zones on the waters of the Willamette, Columbia and Coos Rivers published in 33 CFR 165.1315 at paragraphs (a)(3) Tri-City Chamber of Commerce Fireworks Display, Kennewick, WA, on July 4, 2005, from 9:30 p.m. to 11 p.m.; (a)(4) Cedco Inc. Fireworks Display, North Bend, OR, on July 3, 2005, from 9:30 p.m. to 11 p.m.; (a)(5) Astoria 4th of July Fireworks, Astoria, OR, on July 4, 2005, from 9:30 p.m. to 11 p.m.; (a)(6) Oregon Food Bank Blues Festival Fireworks, Portland, OR, on July 4, 2005, from 9:30 p.m. to 11 p.m.; and (a)(7) Oregon Symphony Concert Fireworks Display, Portland, OR, on September 1, 2005, from 8:30 p.m. to 10 p.m. Entry into these safety zones is prohibited unless otherwise exempted or excluded under the final rule or unless authorized by the Captain of the Port or his designee. The Captain of the Port may be assisted by other Federal, State, or local agencies in enforcing these safety zones.

Dated: May 11, 2005.
Paul D. Jewell,
Captain, U.S. Coast Guard, Captain of the Port, Portland, OR.

[FR Doc. 05-9915 Filed 5-18-05; 8:45 am]

BILLING CODE 4910-15-P